NATIONAL FOUNDATION ON THE ARTS AND THE HUMANITIES

Meetings of Humanities Panel

AGENCY: The National Endowment for the Humanities, NFAH.

ACTION: Notice of meetings.

SUMMARY: Pursuant to the provisions of the Federal Advisory Committee Act (Pub. L. 92-463, as amended), notice is hereby given that the following meetings of the Humanities Panel will be held at the Old Post Office, 1100 Pennsylvania Avenue, NW., Washington, DC 20506.

FOR FURTHER INFORMATION CONTACT: Heather Gottry, Acting Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c) (4), and (6) of section 552b of Title 5, United States Code.

1. Date: July 11, 2002.

Time: 8:30 a.m. to 5:30 p.m.

Room: 415.

Program: This meeting will review applications for History Museums, Historical Organizations and Historical Sites, submitted to the Office of Challenge Grants at the May 1, 2002 deadline.

2. Date: July 16, 2002.

Time: 8:30 a.m. to 5:30 p.m.

Room: 415.

Program: This meeting will review applications for Colleges, Universities and Other Educational Programs, submitted to the Office of Challenge Grants at the May 1, 2002 deadline.

3. Date: July 23, 2002.

Time: 8:30 a.m. to 5:30 p.m.

Room: 415.

Program: This meeting will review applications for Colleges and Universities, submitted to the Office of Challenge Grants at the May 1, 2002 deadline.

4. Date: July 25, 2002.

Time: 8:30 a.m. to 5:30 p.m.

Room: 415.

Program: This meeting will review applications for Art Museums and Cultural Organizations, submitted to the Office of Challenge Grants at the May 1, 2002 deadline.

5. Date: July 30, 2002.

Time: 8:30 a.m. to 5:30 p.m.

Room: 415.

Program: This meeting will review applications for Public Programming Institutions, submitted to the Office of Challenge Grants at the May 1, 2002 deadline.

Heather Gottry,
Acting Advisory Committee Management Officer.

[FR Doc. 02-16652 Filed 7-1-02; 8:45 am]

BILLING CODE 7536-01-P